DEPARTMENT OF TRANSPORTATION

Federal Aviation Administration

Notice of Passenger Facility Charge (PFC) Approvals and Disapprovals

AGENCY: Federal Aviation Administration (FAA), DOT.

ACTION: Monthly Notice of PFC Approvals and Disapprovals. In January 2006, there were seven applications approved. This notice also includes information on one application, approved in December 2005, inadvertently left off the December 2005 notice. Additionally, six approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: City of Monroe, Louisiana.

Application Number: 06-02-C-00-MLU.

Application Type: Impose and use a PFC.

PFC Level: $4.50.

Total PFC Revenue Approved in This Decision: $720,000.

Earliest Charge Effective Date: February 1, 2006.

Estimated Charge Expiration Date: September 1, 2007.

Class of Air Carriers Not Required to Collect PFC's: None.

Brief Description of Project Approved for Collection and Use: Passenger terminal scoping and planning study.

Decision Date: December 20, 2005.

FOR FURTHER INFORMATION CONTACT: Patrick Vaught, Southwest Region Airports Division, (817) 222-5638.

Public Agency: Texas A&M University, College Station, Texas.

Application Number: 06-05-C-00-CLL.

Application Type: Impose and use a PFC.

PFC Level: $4.50.

Total PFC Revenue Approved in This Decision: $799,557.

Earliest Charge Effective Date: January 1, 2007.

Estimated Charge Expiration Date: March 1, 2010.

Class of Air Carriers Not Required to Collect PFC's: None.

Brief Description of Projects Approved for Collection and Use:

Construct north and south common use parking apron.

Relocate airfield guidance signs.

Reconstruction of runway 4/22.

Taxiway reconstruction, taxiways A, D, and H.

Runway 16/34 safety area enhancements.

Terminal roadway signage.

Airfield lighting.

PFC application and administration fees.

Decision Date: January 4, 2006.

FOR FURTHER INFORMATION CONTACT: Ben Guttery, Southwest region Airports Division, (817) 222-5614.

Public Agency: Port Authority of New York and New Jersey, New York, New York.

Applications Number: 05-05-C-00-EWR, 05-05-C-00-JFK, and 05-05-C-00-LGA.

Application Type: Impose and use a PFC.

PFC Level: $4.50.

Total PFC Revenue Approved in This Decision: $1,555,886,059.

Charge Effective Date: November 1, 2001.

Earliest Charge Effective Date for $4.50 Collections: April 1, 2006.

Estimated Charge Expiration Date: March 1, 2011.

Classes of Air Carriers Not Required to Collect PFC's:

(1) Nonscheduled/on-demand air carriers; (2) commuters or small certificated air carriers; and (3) all other nonscheduled charter carriers.

Determination: Approved. Based on information submitted in the public agency's application, the FAA has determined that each approved class accounts for less than 1 percent of the total annual enplanements each of the three collecting airports: Newark Liberty International Airport (EWR); John F. Kennedy International Airport (JFK); and LaGuardia Airport (LGA).

Brief Description of Projects Approved for Collection at EWR, JFK, and LGA and Use at JFK at a $4.50 PFC Level:

Relocation and rehabilitation of taxiway A and rehabilitation of taxiway B.

Reconstruction and strengthening of taxiways A and B bridges.

Planning for the rehabilitation and widening of runway 13R.

Perimeter security.

Reimbursement for mandated security costs from 9/11/2001 to 9/30/2002.

Brief Description of Projects Approved for Collection at EWR, JFK, and LGA and Use at LGA at a $4.50 PFC Level:

Runways 13/31 and 4/22 rehabilitation.

Perimeter security.

Crisis command center/police and aircraft rescue and firefighting facility.

Reimbursement for mandated security costs from 9/11/2001 to 9/30/2002.

Brief Description of Projects Approved for Collection at EWR, JFK, and LGA and Use at EWR at a $4.50 PFC Level:

Runway extension drainage infrastructure.

Airfield expansion.

Perimeter security.

Planning for expanded terminal A.

Modernization of terminal B.

Reimbursement for mandated security costs from 9/11/2001 to 9/30/2002.

Brief Description of Project Partially Approved for Collection at EWR, JFK, and LGA and Use at JFK at a $4.50 PFC Level:

Runway 13L/31R rehabilitation.

Determination: Partially approved for collection and use. The requested amount in the application was based on a preliminary cost estimate. The Port Authority, at the FAA's request, later submitted a detailed cost estimate that was based on more recent information and so the FAA approved an amount based on the more recent cost estimate.

Brief Description of Project Partially Approved for Collection at EWR, JFK, and LGA and Use at EWR at a $4.50 PFC Level:

Runway/taxiway pavement rehabilitation: runway 4L/22R, runway 4R/22L, and taxiway P.

Determination: Partially approved for collection and use. The requested amount in the application was based on a preliminary cost estimate. The Port Authority, at the FAA's request, later submitted a detailed cost estimate that was based on more recent information and so the FAA approved an amount based on the more recent cost estimate.

Brief Description of Project Approved for Collection at EWR, JFK, and LGA for Future Use at JFK at a $4.50 PFC Level:

Construction of taxiway A connector.

Brief Description of Projects Approved for Collection at EWR, JFK, and LGA for Future Use at EWR at a $4.50 PFC Level:

Upgrade navigational aids, runways 22R and 22L.

Upgrade navigational aids, runway 4L.

Improvements to runway safety areas.

Brief Description of Projects Approved for Collection at EWR, JFK, and LGA and Use at JFK at a $3.00 PFC Level:

Infrastructure study and preliminary design to accommodate a new terminal.

Central terminal area light rail system component.

Jamaica—JFK light rail system component.

Brief Description of Project Approved for Collection at EWR, JFK, and LGA and Use at LGA at a $3.00 PFC Level:

Central terminal building modernization feasibility study.

Brief Description of Project Approved for Collection at EWR, JFK, and LGA and Use at EWR at a $3.00 PFC Level:

Vertical circulation improvements in terminal A.

Brief Description of Project Partially Approved for Collection at EWR, JFK, and LGA and Use at EWR at a $3.00 PFC Level:

North area roadway improvements.

Determination: Partially approved for collection and use. The requested amount in the application included two components, a toll plaza and a bus shelter, which have been determined to be ineligible as the FAA was unable to determine that the toll plaza and bus shelter impeded the construction of this project and, thus, required relocation.

Brief Description of Project Approved for Collection at EWR, JFK, and LGA for Future Use at LGA at a $3.00 PFC Level:

Central terminal building modernization planning and engineering.

Decision Date: January 13, 2006.

FOR FURTHER INFORMATION CONTACT: John Dermody, New York Airports District Office, (516) 227-3869.

Public Agency: Pennsylvania State University, State College, Pennsylvania.

Application Number: 06-04-C-00-UNV.

Application Type: Impose and use a PFC.

PFC Level: $4.50.

Total PFC Revenue Approved in this Decision: $1,735,524.

Earliest Charge Effective Date: August 1, 2006.

Estimated Charge Expiration Date: March 1, 2009.

Class of Air Carriers Not Required to Collect PFC's:

Air taxi operating under Part 135 and filing FAA Form 1800-31.

Determination: Approved. Based on information submitted in the public agency's application, the FAA has determined that the approved class accounts for less than 1 percent of the total annual enplanements at University Park Airport.

Brief Description of Projects Approved for Collection and Use:

Updated airport layout plan (for proposed air traffic control tower).

Acquire snow removal equipment (18-foot high speed broom with carrier unit).

Construct terminal building, phase I.

Acquire interactive training system.

Acquire and install security access control equipment.

Update terminal area plan.

Modify terminal building, phase II.

Update airport master plan (conduct geographic information system).

Acquisition of an airport vehicle.

Acquire runway deicing equipment.

Construct air traffic control tower, phase I design.

Brief Description of Project Approved for Collection:

Acquire land (Spearly, approximately 205 acres) for runway 06 approach protection.

Brief Description of Disapproved Project:

Prepare airport minimum standards and update airport rules and regulations.

Determination: This project is not PFC-eligible in accordance with § 158.15.

Decision Date: January 11, 2006.

FOR FURTHER INFORMATION CONTACT: Lori Ledebohm, Harrisburg Airports District Office, (717) 730-2835.

Public Agency: Rock Springs—Sweetwater County Airport Board, Rock Springs, Wyoming.

Application Number: 06-02-C-00-RKS.

Application Type: Impose and use a PFC.

PFC Level: $4.50.

Total PFC Revenue Approved in This Decision: $226,907.

Earliest Charge Effective Date: April 1, 2006.

Estimated Charge Expiration Date: November 1, 2010.

Class of Air Carriers Not Required to Collect PFC's: None.

Brief Description of Projects Approved for Collection and Use:

Rehabilitate airfield signs, install runway end identifier lights and runway distance remaining signs.

Reconstruct general aviation apron, phase 1.

Reconstruct general aviation apron, phase 2.

Rehabilitate runway 9/27, design.

Rehabilitate runway 9/27, phase 1.

Rehabilitate runway 9/27, phase 2.

Install wildlife fence, grade runway safety area.

Acquire aircraft rescue and firefighting vehicle.

Rehabilitate taxiway lights, install visual aids and gates.

Acquire snow removal equipment.

Airport master plan.

Rehabilitate portion of taxiway A, phase 1.

Rehabilitate portion of taxiway A, phase 2, and rehabilitate taxiway C and runway lights.

Rehabilitate commercial apron, design.

Rehabilitate commercial apron, partial.

Decision Date: January 13, 2006.

FOR FURTHER INFORMATION CONTACT: Chris Schaffer, Denver Airports District Office, (303) 342-1258.

Public Agency: City of Sioux City, Iowa.

Application Number: 06-05-C-00-SUX.

Application Type: Impose and use a PFC.

PFC Level: $4.50.

Total PFC Revenue Approved in This Decision: $711,255.

Earliest Charge Effective Date: May 1, 2006.

Estimated Charge Expiration Date: March 1, 2010.

Class of Air Carriers Not Required To Collect PFC's: None.

Brief Description of Projects Approved for Collection and Use:

Terminal concept plan.

Acquire and modify loading bridges.

Mark runways and taxiways.

Construct terminal entrance road.

Acquire snow removal equipment.

Rehabilitate aircraft parking apron.

Acquire land for runway 13 runway protection zone.

Acquire replacement snow plow truck and front end loader.

Extend taxiway C (including perimeter road).

Improve runway 17/35 safety area.

Acquire replacement snow blower.

Decision Date: January 18, 2006.

FOR FURTHER INFORMATION CONTACT: Lorna Sandrige, Central Regional Airports Division, (816) 329-2641.

Amendments to PFC Approvals
Amendment No. city, state | Amendment approved date | Original approved net PFC revenue | Amended approved net PFC revenue | Original estimated charge exp. date | Amended estimated charge exp. date
94-03-C-03-OAK, Oakland, CA | 12/30/05 | $13,546,741 | $13,161,745 | 09/01/96 | 09/01/96
95-04-U-02-OAK, Oakland, CA | 12/30/05 | NA | NA | 09/01/96 | 09/01/96
96-01-C-01-BIS, Bismarck, ND | 01/17/06 | 336,388 | 349,092 | 07/01/97 | 07/01/97
98-02-C-02-BIS, Bismarck, ND | 01/17/06 | 1,461,653 | 1,342,095 | 04/01/02 | 04/01/02
01-03-C-02-BIS, Bismarck, ND | 01/17/06 | 925,522 | 998,006 | 03/01/04 | 02/01/04
93-01-C-03-PSC, Pasco, WA | 01/18/06 | 3,630,945 | 2,352,361 | 05/01/02 | 05/01/02

Issued in Washington, DC on February 9, 2006.
Joe Hebert,
Manager, Financial Analysis and Passenger Facility Charge Branch.

[FR Doc. 06-1428 Filed 2-14-06; 8:45 am]

BILLING CODE 4910-13-M